FEDERAL DEPOSIT INSURANCE CORPORATION

Agency Information Collection Activities: Submission for OMB Review; Comment Request

AGENCY: Federal Deposit Insurance Corporation (FDIC).

ACTION: Notice of information collections to be submitted to OMB for review and approval under the Paperwork Reduction Act of 1995.

SUMMARY: In accordance with requirements of the Paperwork Reduction Act of 1995 (44 U.S.C. chapter 35), the FDIC hereby gives notice that it plans to submit to the Office of Management and Budget (OMB) a request for OMB review and renewal of the collections of information described below:

DATES: Comments must be submitted on or before May 18, 2009.

ADDRESSES: Interested parties are invited to submit written comments to FDIC by any of the following methods. All comments should refer to the name of the collection as well as the OMB control number(s):

• Web site: http://www.FDIC.gov/regulations/laws/federal/notices.html.

• E-mail: Comments@FDIC.gov. Include the name of the collection in the subject line of the message.

• Mail: Herbert J. Messite, Counsel, 202-898-6834, Legal Division, Federal Deposit Insurance Corporation, 550 17th Street, NW., Washington, DC 20429.

• Hand Delivery: Comments may be hand-delivered to the guard station at the rear of the 550 17th Street Building (located on F Street), on business days between 7 a.m. and 5 p.m.

Public Inspection: All comments received will be posted without change to http://www.fdic.gov/regulations/laws/federal/propose.html including any personal information provided. Comments may be inspected at the FDIC Public Information Center, Room E-1002, 3501 Fairfax Drive, Arlington, VA 22226, between 9 a.m. and 5 p.m. on business days.

Comments may also be submitted to the OMB desk officer for the FDIC: Office of Information and Regulatory Affairs, Office of Management and Budget, New Executive Office Building, Room 10235, 727 17th Street, NW., Washington, DC 20503.

FOR FURTHER INFORMATION CONTACT: Herbert J. Messite at the address identified above.

SUPPLEMENTARY INFORMATION:

Proposal To Renew the Following Currently Approved Collections of Information

1. Title: Customer Assistance.

OMB Number: 3064-0134.

Form Number: FDIC 6422/04.

Frequency of Response: On occasion.

Affected Public: Individuals, Households, Business or other financial institutions.

Estimated Number of Respondents: 5000.

Estimated Time per Response: 0.5 hours.

Total Annual Burden: 2500 hours.

General Description of Collection: This collection permits the FDIC to collect information from customers of financial institutions who have inquiries or complaints about service. Customers may document their complaints or inquiries to the FDIC using a letter or an optional form (6422/04).

2. Title: Asset Purchaser Eligibility Certification.

OMB Number: 3064-0135.

Form Number: FDIC 7300/06.

Frequency of Response: On occasion.

Affected Public: Business or other financial institutions.

Estimated Number of Respondents: 2500.

Estimated Time per Response: 0.5 hours.

Total Annual Burden: 1250 hours.

General Description of Collection: The FDIC will use the Asset Purchaser Eligibility Certification to assure compliance with statutory restrictions on who may purchase assets held by the FDIC.

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the information collection on respondents, including through the use of automated collection techniques or other forms of information technology. All comments will become a matter of public record.

Dated at Washington, DC, this 13th day of April 2009.
Federal Deposit Insurance Corporation.
Robert E. Feldman,
Executive Secretary.

[FR Doc. E9-8788 Filed 4-16-09; 8:45 am]

BILLING CODE 6714-01-P